FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than April 24, 2005.

A. Federal Reserve Bank of Atlanta (Andre Anderson, Vice President) 1000 Peachtree Street, N.E., Atlanta, Georgia 30303:

1. Douglas Williams and Zella Irene Williams, both of Portland, Tennessee; to acquire additional voting shares of First Farmers Bancshares, Inc., Portland, Tennessee, and thereby indirectly acquire additional voting shares of The Farmers Bank, Portland, Tennessee.

B. Federal Reserve Bank of Chicago (Patrick M. Wilder, Assistant Vice President) 230 South LaSalle Street, Chicago, Illinois 60690-1414:

1. Everett D. Lawrence, Marshall, Illinois, Lawrence Gravel, Phyllis Lawrence, and Kim Schmidt, acting in concert to retain voting shares of Preferred Bancorp, Inc. Casey, Illinois, and thereby indirectly retain voting shares of Preferred Bank, Casey, Illinois.

Board of Governors of the Federal Reserve System, March 4, 2005.
Robert deV. Frierson,
Deputy Secretary of the Board.

[FR Doc. 05-4663 Filed 3-9-05; 8:45 am]

BILLING CODE 6210-01-S